DEPARTMENT OF COMMERCE

United States Patent and Trademark Office

[Docket No.: PTO-P-2022-0037]

Joint USPTO-FDA Collaboration Initiatives; Notice of Public Listening Session and Request for Comments

AGENCY: United States Patent and Trademark Office, Department of Commerce.

ACTION: Request for comments; extension of written comment period.

SUMMARY: The United States Patent and Trademark Office (USPTO), Department of Commerce, in collaboration with the United States Food and Drug Administration (FDA), Department of Health and Human Services, is extending the written comment period for the notice titled “Joint USPTO-FDA Collaboration Initiatives; Notice of Public Listening Session and Request for Comments” that was published in the Federal Register on November 7, 2022, until March 10, 2023.

DATES: The comment period for the notice published at 87 FR 67019 is extended. Comments are due by March 10, 2023.

ADDRESSES: For reasons of Government efficiency, comments must be submitted through the Federal eRulemaking Portal at www.regulations.gov. This docket closed on February 6, 2023, but is now reopened to accept additional comments. To submit comments via the portal, enter docket number PTO-P-2022-0037 on the homepage and click “Search.” The site will provide a search results page listing all documents associated with this docket. Find a reference to this document and click on the “Comment” icon, complete the required fields, and enter or attach your comments. Attachments to electronic comments will be accepted as various file types, including Adobe® portable document format (PDF) and Microsoft Word® format. Because comments will be made available for public inspection, information the submitter does not desire to make public, such as an address or phone number, should not be included in the comments.

Visit the Federal eRulemaking Portal for additional instructions on providing comments via the portal. If electronic submission of comments is not feasible due to a lack of access to a computer and/or the internet, please contact the USPTO using the contact information below (at FOR FURTHER INFORMATION CONTACT) for special instructions.

FOR FURTHER INFORMATION CONTACT: Linda Horner, Administrative Patent Judge, at 571-272-9797 or USPTO-FDAcollaboration@uspto.gov.

SUPPLEMENTARY INFORMATION: On November 7, 2022, the USPTO, in collaboration with the FDA, published a notice titled “Joint USPTO-FDA Collaboration Initiatives; Notice of Public Listening Session and Request for Comments” to seek public comments on proposed initiatives for collaboration between the agencies to advance President Biden's Executive Order on “Promoting Competition in the American Economy” and to support the provision of greater access to medicines for American families. See 87 FR 67019. The USPTO is extending the written comment period until March 10, 2023, to ensure that all stakeholders have a sufficient opportunity to submit comments on the questions presented in the November 7, 2022, notice.

Comments previously submitted to the docket through the Federal eRulemaking Portal do not need to be resubmitted. Any comments sent directly to the USPTO after the close of the previous deadline of February 6, 2023, must be submitted through the Federal eRulemaking Portal before the newly extended deadline to be given full consideration. All other information and instructions to commenters provided in the November 7, 2022, notice remain unchanged.

Katherine K. Vidal,
Under Secretary of Commerce for Intellectual Property and Director of the United States Patent and Trademark Office.

[FR Doc. 2023-03808 Filed 2-23-23; 8:45 am]

BILLING CODE 3510-16-P